DEPARTMENT OF HEALTH AND HUMAN SERVICES

Health Resources and Services Administration

Agency Information Collection Activities: Submission to OMB for Review and Approval; Public Comment Request; Evidence-Based Telehealth Network Program Measures, OMB No. 0906-xxxx—NEW

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than September 26, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Evidence-Based Telehealth Network Program Measures, OMB No. 0906-xxxx—NEW.

Abstract: This ICR is for a new approval of measures for the Federal Office of Rural Health Policy's Office of Advancement of Telehealth programs. Specifically, grants administered in accordance with the following legislative statute (ii) Section 711(b) of the Social Security Act (42 U.S.C. 912(b)), as amended. The purpose of these programs are to provide grants that demonstrate how telehealth programs and networks can improve access to quality health care services in rural, frontier, and underserved communities. These grants will work to: (a) Expand access to, coordinate, and improve the quality of health care services; (b) improve and expand the training of health care providers; and (c) expand and improve the quality of health information available to health care providers and patients and their families for decision-making. In addition, these grants will help HRSA assess the effectiveness of evidence based practices with the use of telehealth for patients, providers, and payers.

A 60-day notice was published in the Federal Register on April 08, 2019, vol. 84, No. 67; pp. 13936. There were no public comments.

Need and Proposed Use of the Information: The measures will enable HRSA and HRSA to capture awardee-level and aggregate data that illustrate the impact and scope of federal funding along with assessing these efforts. The measures cover the principal topic areas of interest to HRSA including: (a) Population demographics; (b) access to health care; (c) cost savings and cost-effectiveness; and (d) clinical outcomes.

Likely Respondents: Award recipients of the Evidence Based Telehealth Network Program.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Evidence-Based Telehealth Network Program Report | 50 | 12 | 600 | 14 | 8,400
Telehealth Performance Measurement Report | 50 | 1 | 50 | 5 | 250
| * 50 |  | 650 |  | 8,650
* There are 50 unique respondents. All respondents will be responding to the two forms.

Maria G. Button,
Director, Division of the Executive Secretariat.

[FR Doc. 2019-18388 Filed 8-26-19; 8:45 am]

BILLING CODE 4165-15-P